DEPARTMENT OF HEALTH AND HUMAN SERVICES

National Institutes of Health

National Institutes of Health/National Institute of Environmental Health Sciences; Proposed Collection; Comment Request; Active Living by Design Program Evaluation

Summary: In compliance with the requirement of section 3506(c)(2)(A) of the Paperwork Reduction Act of 1995, for opportunity for public comment on proposed data collection projects, the National Institute of Environmental Health Sciences (NIEHS), the National Institute of Health (NIH) will publish periodic summaries of proposed projects to be submitted to the Office of Management and Budget (OMB) for review and approval.

Proposed Collection: Title: Active Living by Design Program Evaluation.

Type of Information Collection Request: New.

Need and Use of Information Collection: The purpose of this study is to provide NIEHS with an overall evaluation of the Active Living by Design (ALbD) program to determine the extent to which program strategies to increase physical activity influence change, as measured by increased physical activity and reduction of Body Mass Index (BMI), in residents of participating communities. The two objectives of this study are to determine:

• The degree to which the changes in the built environment, communication strategies and policy as a result of ALbD's program has impacted physical activity and BMI in residents within the twenty-five (25) participating communities relative to a set of ten (10) control communities; and

• The degree to which the ALbD program's communication strategies has positively impacted residents' knowledge and perceptions of features and conditions that impede and facilitate physical activity within their (participating) communities.

Two types of data collection will occur throughout the study. A telephone and Internet survey, which relies on self-reports, will be conducted on a large sample of the population. A smaller population sample will be used during clinical surveys, which will collect physical activity data using measures of physical activity such as, accelerometers; measures of BMI and include a face-to-face interview on respondents' perceptions of their neighborhood. The findings of this study will provide valuable information concerning: (1) The direct impact ALbD strategies have on increasing physical activity and bringing about positive changes in health associated with exercise, such as weight loss: (2) possible reduction of health risks and diseases related to physical inactivity through implementation of ALbD strategies.

Frequency of Response: Three times over a period of five (5) years; specifically during study years One (1), Three (3), and Five (5).

Affected Public: Individuals or households.

Type of Respondents: Respondents to telephone and internet surveys, includes adults, children ages 12 through 17 years and parents responding on behalf of children ages 6 through 11; Respondents to clinical surveys, includes adults and children ages 6-17. The clinical procedures require respondents under 18 years of age to be accompanied by their parent/guardian, therefore the burden has been doubled for these respondents. The annual reporting burden is represented in the following table:

Type of respondents | Estimated Number of respondents | Estimated Number of responses per respondent | Average burden hours per response | Estimated total annual burden hours requested
Respondents to Telephone and Internet Surveys | 7,000 | 1 | .334 | 2,338
Respondents to Clinical Study Phase—Adults | 1,855 | 1 | .9185 | 1,703.8175
Respondents to Clinical Study Phase—Children/Parent | 595 | 1 | 1.837 | 1,093,015
Total |  |  |  | 5,134.8325

There are no Capital Costs to report. There are no Operating or Maintenance Costs to report.

Request For Comments: Written comments and/or suggestions from the public and affected agencies should address one or more of the following points: (1) Evaluate whether the proposed collection of information is necessary for the proper performance of the function of the agency, including whether the information will have practical utility; (2) evaluate the accuracy of the agency's estimate of the burden of the proposed collection of information, including the validity of the methodology and assumptions used; (3) enhance the quality, utility, and clarity of the information to be collected; and (4) minimize the burden of the collection of information on those who are to respond, including the use of appropriated automated, electronic, mechanical, or other technological collection techniques or other forms of information technology.

For Further Information Contact: To request more information on the proposed project or to obtain a copy of the data collection plans and instruments, contact: Shobha Srinivasan, PhD., Division of Extramural Research and Training, National Institute of Environmental Health Sciences, P.O. Box 12233, MD EC-21, 111 T.W. Alexander Drive, RTP, NC 27709. Phone: (919) 541-2506. Fax: (919) 316-4606. E-mail: ss688k@nih.gov.

Comments due Date: Comments regarding this information collection are best assured of having their full effect if received within 60-days of the date of this publication.

Dated: February 2, 2005.
Richard Freed,
NIEHS, Associate Director for Manage

[FR Doc. 05-2772 Filed 2-11-05; 8:45 am]

BILLING CODE 4140-01-M